DEPARTMENT OF HEALTH AND HUMAN SERVICES

Centers for Disease Control and Prevention

Board of Scientific Counselors, National Center for Injury Prevention and Control

AGENCY: Centers for Disease Control and Prevention (CDC), Department of Health and Human Services (HHS).

ACTION: Notice of meeting.

SUMMARY: In accordance with the Federal Advisory Committee Act, the CDC announces the following meeting for the Board of Scientific Counselors, National Center for Injury Prevention and Control (BSC, NCIPC). This meeting is closed to the public.

DATES: The meeting will be held on June 8, 2022, from 1 p.m. to 4 p.m., EDT (CLOSED).

ADDRESSES: Zoom Virtual Meeting.

FOR FURTHER INFORMATION CONTACT: Arlene Greenspan, DrPH, MPH, PT, Associate Director for Science, NCIPC, CDC, 4770 Buford Highway NE, Mailstop S-1069, Atlanta, Georgia 30341, Telephone: (770) 488-1279, Email: ncipcbsc@cdc.gov.

SUPPLEMENTARY INFORMATION: The meeting designated above will be closed to the public in accordance with provisions set forth in Section 552b(c)(4) and (6), Title 5 U.S.C., and the Determination of the Director, Strategic Business Initiatives Unit, Office of the Chief Operating Officer, CDC, pursuant to Public Law 92-463 (5 U.S.C. App. 2).

Purpose: The Board will: (1) Conduct, encourage, cooperate with, and assist other appropriate public health authorities, scientific institutions, and scientists in the conduct of research, investigations, experiments, demonstrations, and studies relating to the causes, diagnosis, treatment, control, and prevention of physical and mental diseases, and other impairments; (2) assist States and their political subdivisions in preventing and suppressing communicable and non-communicable diseases and other preventable conditions and in promoting health and well-being; and (3) conduct and assist in research and control activities related to injury. The Board of Scientific Counselors makes recommendations regarding policies, strategies, objectives, and priorities; and reviews progress toward injury prevention goals and provides evidence in injury prevention-related research and programs. The Board also provides advice on the appropriate balance of intramural and extramural research, as well as the structure, progress and performance of intramural programs. The Board is designed to provide guidance on extramural scientific program matters, including the: (1) Review of extramural research concepts for funding opportunity announcements; (2) conduct of Secondary Peer Review of extramural research grant, cooperative agreement, and contract applications received in response to funding opportunity announcements as they relate to the Center's programmatic balance and mission; (3) submission of secondary review recommendations to the Center Director of applications to be considered for funding support; (4) review of research portfolios, and (5) review of program proposals.

Matters to be Considered: The closed meeting will focus on the Secondary Peer Review of extramural research grant applications received in response to two (2) Notice of Funding Opportunities (NOFOs): (1) RFA-CE-22-002—“Grants to Support New Investigators in Conducting Research Related to Preventing Interpersonal Violence Impacting Children and Youth”; (2) RFA-CE-22-004—“Research Grants to Prevent Firearm-Related Violence and Injuries (R01)”; as well as PA-21-259—PHS 2021-2 Omnibus Solicitation of the NIH, CDC and FDA for Small Business Innovation Research (SBIR) Grant Applications (Parent SBIR [R43/R44] Clinical Trial Not Allowed) and PA-21-260—PHS 2021-2 Omnibus Solicitation of the NIH and CDC for SBIR Grant Applications (Parent SBIR [R43/R44] Clinical Trial Required). Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-10944 Filed 5-20-22; 8:45 am]

BILLING CODE 4163-18-P